DEPARTMENT OF LABOR

Employment and Training Administration

[TA-W-63,625]

Carlisle Publishing Services, A Subsidiary of Carlisle Communications Ltd., Dubuque, IA; Notice of Termination of Investigation

Pursuant to Section 221 of the Trade Act of 1974, as amended, an investigation was initiated on June 30, 2008 in response to a worker petition filed by a company official on behalf of workers of Carlisle Publishing Services, a subsidiary of Carlisle Communications LTD, Dubuque, Iowa.

The petitioner has requested that the petition be withdrawn. Consequently, the investigation has been terminated.

Signed at Washington, DC, this 10th day of July 2008.
Richard Church,
Certifying Officer, Division of Trade Adjustment Assistance.

[FR Doc. E8-16560 Filed 7-18-08; 8:45 am]

BILLING CODE 4510-FN-P